ENVIRONMENTAL PROTECTION AGENCY

40 CFR Part 81

[EPA-HQ-OAR-2020-0037; FRL-10018-96-OAR]

RIN 2060-AU61

Air Quality Designations for the 2010 Primary Sulfur Dioxide (SO2) National Ambient Air Quality Standard—Round 4

AGENCY: Environmental Protection Agency (EPA).

ACTION: Final rule.

SUMMARY: This final rule establishes the initial air quality designations for certain areas in the United States (U.S.) for the 2010 primary sulfur dioxide (SO2) National Ambient Air Quality Standard (NAAQS). The Environmental Protection Agency (EPA) is designating the areas as either nonattainment, attainment/unclassifiable, or unclassifiable. The designations are based on application of the EPA's nationwide analytical approach and technical analysis, including evaluation of monitoring data and air quality modeling, to determine the appropriate designation and area boundary based on the weight of evidence for each area. The Clean Air Act (CAA or Act) directs areas designated as nonattainment to undertake certain planning and pollution control activities to attain the SO2 NAAQS as expeditiously as practicable. This is the fourth and final set of actions to designate areas of the U.S. for the 2010 SO2 NAAQS; there are no remaining undesignated areas in the U.S. for the 2010 SO2 NAAQS.

DATES: The final rule is effective on April 30, 2021.

ADDRESSES: The EPA has established a public docket for these SO2 designations at https://www.regulations.gov under Docket ID No. EPA-HQ-OAR-2020-0037.¹ Although listed in the docket index, some information is not publicly available, e.g., Confidential Business Information or other information whose disclosure is restricted by statute. Certain other material, such as copyrighted material, is not placed on the internet and will be publicly available only in hard copy form.

¹ The https://www.regulations.gov platform is in the process of being upgraded. Users may be automatically redirected to https://beta.regulations.gov. Both website addresses contain the same information.

Out of an abundance of caution for members of the public and our staff, the EPA Docket Center and Reading Room are currently closed to the public, with limited exceptions, to reduce the risk of transmitting COVID-19. The Docket Center staff will continue to provide remote customer service via email, phone, and webform. For further information on EPA Docket Center services and the current status, please visit us online at https://www.epa.gov/dockets.

FOR FURTHER INFORMATION CONTACT: For general questions concerning this action, please contact Corey Mocka, U.S. Environmental Protection Agency, Office of Air Quality Planning and Standards, Air Quality Policy Division, 109 T.W. Alexander Drive, Mail Code C539-04, Research Triangle Park, NC 27711; telephone: (919) 541-5142; email address: mocka.corey@epa.gov. The following EPA contacts can answer questions regarding areas in a particular EPA Regional office:

Region 2—Marina Castro, telephone (212) 637-3713, email at castro.marina@epa.gov.

Region 3—Megan Goold, telephone (215) 814-2027, email at goold.megan@epa.gov.

Region 4—Twunjala Bradley, telephone (404) 562-9352, email at bradley.twunjala@epa.gov.

Region 5—Alisa Liu, telephone (312) 353-3193, email at liu.alisa@epa.gov.

Region 6—Robert Imhoff, telephone (214) 665-7262, email at imhoff.robert@epa.gov.

Region 7—William Stone, telephone (913) 551-7714, email at stone.william@epa.gov.

Region 8—Rebecca Matichuk, telephone (303) 312-6867, email at matichuk.rebecca@epa.gov.

Region 9—Ashley Graham, telephone (415) 972-3877, email at graham.ashleyr@epa.gov.

Region 10—John Chi, telephone (206) 553-1185, email at chi.john@epa.gov.

Regional offices | Affected state(s)
EPA Region 2—Air Programs Branch, 290 Broadway, 25th Floor, New York, NY 10007 | New York.
EPA Region 3—Planning & Implementation Branch, 1650 Arch Street, Philadelphia, PA 19103 | Maryland, Pennsylvania, Virginia, and West Virginia.
EPA Region 4—Air Planning & Implementation Branch, Sam Nunn Atlanta Federal Center, 61 Forsyth Street SW, 12th Floor, Atlanta, GA 30303 | Alabama, Georgia, Kentucky, and North Carolina.
EPA Region 5—Air Programs Branch, Air & Radiation Division (AR-18J), 77 West Jackson Blvd., Chicago, IL 60604 | Illinois, Indiana, and Wisconsin.
EPA Region 6—State Planning & Implementation Branch, 1201 Elm Street, Dallas, TX 75270 | Louisiana, Oklahoma, and Texas.
EPA Region 7—Air Quality Planning Branch, 11201 Renner Blvd., Lenexa, KS 66219 | Missouri and Nebraska.
EPA Region 8—Air and Radiation Division, Air Toxics, Radiation, & Modeling Branch, 1595 Wynkoop Street, Denver, CO 80202 | North Dakota and Wyoming.
EPA Region 9—Air Planning Branch, 75 Hawthorne Street, San Francisco, CA 94105 | Hawaii.
EPA Region 10—Air Planning & State/Tribal Coordinations Branch, 1200 Sixth Avenue, Mail Code OAQ-107, Seattle, WA 98101 | Washington.

Most EPA offices are closed to reduce the risk of transmitting COVID-19, but staff remain available via telephone and email. The EPA encourages the public to review information related to the Round 4 2010 SO2 NAAQS designations online at https://www.epa.gov/sulfur-dioxide-designations and also in the public docket at https://www.regulations.gov under Docket ID No. EPA-HQ-OAR-2020-0037.

SUPPLEMENTARY INFORMATION:

Table of Contents

The following is an outline of the Preamble.

I. Preamble Glossary of Terms and Acronyms

II. What is the purpose of this action?

III. What is the 2010 SO2 NAAQS and what are the health concerns that it addresses?

IV. What are the CAA requirements for air quality designations and what action has the EPA taken to meet these requirements?

V. What guidance did the EPA issue and how did the EPA apply the statutory requirements to determine area designations and boundaries?

VI. What air quality information has the EPA used for these designations?

VII. How do the Round 4 designations affect areas of Indian country?

VIII. Where can I find information forming the basis for this rule and exchanges between the EPA, states, and tribes related to this rule?

IX. Environmental Justice Concerns

X. Statutory and Executive Order Reviews

A. Executive Order 12866: Regulatory Planning and Review and Executive Order 13563: Improving Regulation and Regulatory Review

B. Executive Order 13771: Reducing Regulations and Controlling Regulatory Costs

C. Paperwork Reduction Act (PRA)

D. Regulatory Flexibility Act (RFA)

E. Unfunded Mandates Reform Act (UMRA)

F. Executive Order 13132: Federalism

G. Executive Order 13175: Consultation and Coordination With Indian Tribal Government.

H. Executive Order 13045: Protection of Children From Environmental Health and Safety Risks

I. Executive Order 13211: Actions That Significantly Affect Energy Supply, Distribution or Use

J. National Technology Transfer and Advancement Act (NTTAA)

K. Executive Order 12898: Federal Actions To Address Environmental Justice in Minority Populations and Low-Income Populations

L. Congressional Review Act (CRA)

M. Judicial Review

I. Preamble Glossary of Terms and Acronyms

The following are abbreviations of terms used in the preamble.

APA Administrative Procedure Act

CAA Clean Air Act

CFR Code of Federal Regulations

CRA Congressional Review Act

DC District of Columbia

DRR Data Requirements Rule

EPA Environmental Protection Agency

FR Federal Register

NAAQS National Ambient Air Quality Standards

NTTAA National Technology Transfer and Advancement Act

ppb Parts per billion

PRA Paperwork Reduction Act

RFA Regulatory Flexibility Act

SIP State Implementation Plan

SO2 Sulfur Dioxide

TAR Tribal Authority Rule

TSD Technical Support Document

UMRA Unfunded Mandate Reform Act

U.S. United States

II. What is the purpose of this action?

The purpose of this final action is to announce and promulgate initial air quality designations for certain areas in the U.S. for the 2010 SO2 NAAQS, in accordance with the requirements of the CAA. The EPA is designating areas as either nonattainment, attainment/unclassifiable, or unclassifiable, as defined in Section IV of this action, and based on evaluating any available information that was timely received, including (but not limited to) appropriate monitoring data and modeling analyses.

On June 2, 2010, the EPA Administrator signed a final rule that revised the primary SO2 NAAQS (75 FR 35520; June 22, 2010) after review of the existing primary SO2 standards promulgated on April 30, 1971 (36 FR 8187). The EPA established the revised primary SO2 NAAQS at 75 parts per billion (ppb) which is attained when the 3-year average of the annual 99th percentile of daily maximum 1-hour average concentrations of SO2 does not exceed 75 ppb.

The process for designating areas following promulgation of a new or revised NAAQS is contained in the CAA section 107(d) (42 U.S.C. 7407(d)). After promulgation of a new or revised NAAQS, each governor shall recommend air quality designations, including the appropriate boundaries for nonattainment areas, to the EPA.² The EPA considers these recommendations as part of its duty to promulgate the formal area designations and boundaries for the new or revised NAAQS. By no later than 120 days prior to promulgating designations, the EPA is required to notify states, territories, and tribes, as appropriate, of any intended modifications to an area designation or boundary recommendation that the EPA deems necessary.

² Tribes are invited to submit recommendations following promulgation of a new or revised NAAQS but are not required to do so.

After invoking a 1-year extension of the deadlines to designate areas, as provided for in section 107 of the Act, the EPA completed an initial round of SO2 designations for certain areas of the country on July 25, 2013 (referred to as “Round 1”).³ Following the initial designations, three lawsuits were filed against the EPA in different U.S. District Courts, alleging the agency had failed to perform a nondiscretionary duty under the CAA by not designating all portions of the country by the June 2, 2013, deadline. In one of those cases, on March 2, 2015, the U.S. District Court for the Northern District of California entered an enforceable order for the EPA to complete the area designations by three specific deadlines according to the court-ordered schedule.⁴

³ A total of 29 areas throughout the U.S. were designated in this action published on August 5, 2013 (78 FR 47191). The EPA designated all 29 areas nonattainment based on violating monitored SO2 concentrations from Federal Reference Method and Federal Equivalent Method monitors that are sited and operated in accordance with 40 CFR parts 50 and 58 and did not at that time designate any other areas.

⁴ Sierra Club v. McCarthy, No. 3-13-cv-3953 (SI) (N.D. Cal. March 2, 2015).

To meet the first court-ordered deadline, the Administrator signed final actions on June 30, 2016, and November 29, 2016, (collectively referred to as “Round 2”) designating additional areas.⁵ To meet the second deadline of the court-ordered schedule, the Administrator signed final actions on December 21, 2017, and March 28, 2018, (collectively referred to as “Round 3”) designating most of the remaining areas of the country.⁶ Finally, the EPA is under a December 31, 2020, court-ordered deadline, the final of the three deadlines established by the court, to designate all remaining undesignated areas (collectively referred to as “Round 4” or the “final round”). These remaining undesignated areas are: (1) Those areas which, under the court order, did not meet the criteria that required designation in Round 2 and also were not required to be designated in Round 3 due to installation and operation of a new SO2 monitoring network by January 2017 in the area meeting EPA's specifications referenced in EPA's SO2 Data Requirements Rule (DRR); ⁷ and (2) those areas which EPA has not otherwise previously designated for the 2010 SO2 NAAQS. With the completion of Round 4, there are no remaining undesignated areas for the 2010 SO2 NAAQS.

⁵ A total of 65 areas throughout the U.S. were designated in these actions published on July 12, 2016 (81 FR 45039), and December 13, 2016 (81 FR 89870). Of these 65 areas, seven were designated nonattainment.

⁶ Most remaining areas of the U.S. were designated in actions published on January 9, 2018 (83 FR 1098) and April 5, 2018 (83 FR 14597). Of these areas, six were designated nonattainment.

⁷ See 80 FR 51052 (August 21, 2015), codified at 40 CFR part 51, subpart BB.

On or about August 13, 2020, consistent with section 107(d)(1)(b)(ii) of the CAA, the EPA notified affected states of its intended designation of certain specific areas as either nonattainment, attainment/unclassifiable, or unclassifiable for the 2010 SO2 NAAQS. These states then had the opportunity to demonstrate why they believed an intended modification of their original (or updated) recommendations by the EPA may be inappropriate. Although not required under the CAA, the EPA also chose to provide an opportunity for members of the public to comment on the EPA's August 2020 intended designations, as the EPA had done for the first, second, and third rounds of SO2 designations. The EPA published a notice of availability and public comment period for the Round 4 intended designations on August 21, 2020 (85 FR 51694), and the public comment period closed on September 21, 2020.

The final Round 4 2010 SO2 NAAQS designations and the boundaries of each area appear in the tables for each state within the regulatory text at the end of this document. State recommendations, EPA's August 2020 designation notification letters, and the subsequent state and public comments, are available in the public docket for these SO2 designations at https://www.regulations.gov under Docket ID No. EPA-HQ-OAR-2020-0037. As described in Section VI of this action, the EPA may consider early certified 2018-2020 monitoring data that may be submitted to the appropriate EPA Regional office by February 15, 2021.

For the areas being designated nonattainment, the CAA directs states to develop and submit State Implementation Plans (SIPs) to the EPA within 18 months of the effective date of this final rule, that meet the requirements of sections 172(c) and 191-192 of the CAA and provide for attainment of the NAAQS as expeditiously as practicable, but not later than 5 years from the effective date of final designation.

III. What is the 2010 SO2 NAAQS and what are the health concerns that it addresses?

The EPA revised the primary SO2 NAAQS in a final rule published in the Federal Register on June 22, 2010 (75 FR 35520), which became effective on August 23, 2010.⁸ Based on review of the air quality criteria for oxides of sulfur and the primary NAAQS for oxides of sulfur as measured by SO2, the EPA revised the primary SO2 NAAQS to provide requisite protection of public health with an adequate margin of safety. Specifically, the EPA established a new 1-hour SO2 standard at a level of 75 ppb, which is met at an ambient air quality monitoring site when the 3-year average of the annual 99th percentile of daily maximum 1-hour average concentrations is less than or equal to 75 ppb, as determined in accordance with Appendix T of 40 CFR part 50, 40 CFR 50.17(a) and (b). The EPA also established provisions to revoke both the existing 24-hour and annual primary SO2 standards, subject to certain conditions, 40 CFR 50.4(e).

⁸ Based on the EPA's review of the air quality criteria addressing human health effects and the primary NAAQS for SO2, the agency took final action to retain the current standard without revision in a final action published in the Federal Register on March 18, 2019 (52 FR 9866).

Current scientific evidence links short-term exposures to SO2, ranging from 5 minutes to 24 hours, with an array of adverse respiratory effects including bronchoconstriction and increased asthma symptoms. These effects are particularly important for asthmatics at elevated ventilation rates (e.g., while exercising or playing). Studies also show a connection between short-term exposure and increased visits to emergency departments and hospital admissions for respiratory illnesses, particularly in at-risk populations including children, the elderly and asthmatics.

IV. What are the CAA requirements for air quality designations and what action has the EPA taken to meet these requirements?

After the EPA promulgates a new or revised NAAQS, the EPA is required to designate all areas of the country as either nonattainment, attainment, or unclassifiable, for that NAAQS pursuant to section 107(d)(1)-(2) of the CAA. As part of these Round 4 designations, the EPA is implementing its interpretation of statutory terms under CAA section 107(d) nationwide and is basing these designations on the EPA's nationwide analytical approach and technical analysis, including evaluation of monitoring data and air quality modeling, applied to the available evidence that was timely received for each area.

Regarding statutory definitions and the EPA's interpretations of such, section 107(d)(1)(A)(i) of the CAA defines a nonattainment area as an area that does not meet the NAAQS or that contributes to a nearby area that does not meet the NAAQS. An attainment area is defined by the CAA as any area that meets the NAAQS and does not contribute to a nearby area that does not meet the NAAQS. Unclassifiable areas are defined by the CAA as those that cannot be classified on the basis of available information as meeting or not meeting the 2010 SO2 NAAQS.

For the purpose of this action for the 2010 SO2 NAAQS, the EPA has interpreted and applied the statutory definitions as follows. The EPA defines a nonattainment area as an area that, based on available information including (but not limited to) monitoring data and/or appropriate modeling analyses, EPA has determined either: (1) Does not meet the 2010 SO2 NAAQS, or (2) contributes to ambient air quality in a nearby area that does not meet the 2010 SO2 NAAQS.

In this action, an attainment/unclassifiable area is defined by the EPA as an area that, based on available information including (but not limited to) appropriate monitoring data and/or appropriate modeling analyses, EPA has determined meets the 2010 SO2 NAAQS and does not likely contribute to ambient air quality in a nearby area that does not meet the 2010 SO2 NAAQS.

In this action, an unclassifiable area is defined by the EPA as an area for which the available information does not allow the EPA to determine whether the area meets the definition of a nonattainment area or the definition of an attainment/unclassifiable area.

This nationwide analytical approach also includes but is not limited to: (1) EPA's interpretations of other terms in the context of Round 4 of the 2010 SO2 NAAQS; (2) the appropriate basis for characterizing the air quality of an area; (3) the five-factor analysis (described in Section V of this action) to determine the boundaries for each air quality area under the NAAQS; and (4) the methodology for appropriately characterizing SO2 air quality through monitoring or modeling.

The EPA notes that CAA section 107(d) provides the agency with discretion to determine how best to interpret the terms in the definition of a nonattainment area (e.g., “contributes to” and “nearby”) for a new or revised NAAQS, given considerations such as the nature of a specific pollutant, the types of sources that may contribute to violations, the form of the standards for the pollutant, and other relevant information. In particular, the EPA's position is that the statute does not require the agency to establish bright line tests or thresholds for what constitutes “contribution” or “nearby” for purposes of designations.⁹

⁹ This view was confirmed in Catawba County v. EPA, 571 F.3d 20 (D.C. Cir. 2009).

Similarly, the EPA's position is that the statute permits the EPA to evaluate the appropriate application of the term “area” to include geographic areas based upon full or partial county boundaries, as may be appropriate for a particular NAAQS. For example, CAA section 107(d)(1)(B)(ii) explicitly provides that the EPA can make modifications to designation recommendations for an area “or portions thereof,” and under CAA section 107(d)(1)(B)(iv) a designation remains in effect for an area “or portion thereof” until the EPA redesignates it.

By no later than 1 year after the promulgation of a new or revised NAAQS, CAA section 107(d)(1)(A) provides that each state governor shall recommend air quality designations, including the appropriate boundaries for areas, to the EPA. The EPA reviews those recommendations and is authorized to make any modifications the Administrator deems necessary. The statute does not define the term “necessary,” but the EPA interprets this to authorize the Administrator to modify designations that did not meet the statutory requirements or were otherwise inconsistent with the facts or analysis deemed appropriate by the Administrator. If the EPA is considering modifications to a recommendation, we are required by CAA section 107(d)(1)(B)(ii) to notify the state of any such intended modifications not less than 120 days prior to our promulgation of the final designation. These notifications are commonly known as the “120-day letters.” During this period, if the state or territory does not agree with the EPA's proposed modification, it has an opportunity to respond to the EPA and to demonstrate why it believes the modification proposed by the EPA is inappropriate. If a state or territory fails to provide any recommendation for an area, in whole or in part, the EPA still must promulgate a designation that the Administrator deems appropriate, pursuant to CAA section 107(d)(1)(B)(ii). While CAA section 107(d) specifically addresses the designations process between the EPA and states and territories, the EPA intends to follow the same process to the extent practicable for tribes that submitted designation recommendations.

V. What guidance did the EPA issue and how did the EPA apply the statutory requirements to determine area designations and boundaries?

In the notice of proposed rulemaking for the revised SO2 NAAQS (74 FR 64810; December 8, 2009), the EPA issued proposed guidance on our approach to implementing the standard, including our approach to initial area designations. The EPA solicited comment on that guidance and, in the notice of final rulemaking (75 FR 35520; June 22, 2010), provided further guidance concerning implementation of the standard and how to identify nonattainment areas and boundaries for the SO2 NAAQS. Subsequently, on March 24, 2011, the EPA provided additional designations guidance to assist states with making their recommendations for area designations and boundaries.¹⁰ The EPA also issued two additional designations guidance documents on March 20, 2015, and July 22, 2016, specific to Round 2 and Round 3 processes and schedules, respectively.¹¹

¹⁰ See, “Area Designations for the 2010 Revised Primary Sulfur Dioxide National Ambient Air Quality Standards,” memorandum to Regional Air Division Directors, Regions I-X, from Stephen D. Page, dated March 24, 2011, available at https://www3.epa.gov/ttn/naaqs/aqmguide/collection/cp2/20110324_page_so2_designations_guidance.pdf.

¹¹ See “Updated Guidance for Area Designations for the 2010 Primary Sulfur Dioxide National Ambient Air Quality Standard,” memorandum to Regional Air Division Directors, Regions 1-10, from Stephen D. Page, dated March 20, 2015, available at https://www.epa.gov/sites/production/files/2016-04/documents/20150320so2designations.pdf, and “Area Designations for the 2010 Primary Sulfur Dioxide National Ambient Air Quality Standard—Round 3,” memorandum to Regional Air Division Directors, Regions 1-10, dated July 22, 2016, available at https://www.epa.gov/sites/production/files/2016-07/documents/areadesign.pdf.

An updated designations guidance document was issued by the EPA on September 5, 2019, to better reflect the Round 4 2010 SO2 NAAQS designations process and to supplement, where necessary, prior designations guidance documents.¹² This memorandum identifies factors that the EPA intended to evaluate in determining whether areas are in violation of the 2010 SO2 NAAQS. The document also contains the factors that the EPA intended to evaluate in determining the boundaries for all remaining undesignated areas in the country. These factors include: (1) Air quality characterization via ambient monitoring and/or dispersion modeling results; (2) emissions-related data; (3) meteorology; (4) geography and topography; and (5) jurisdictional boundaries.¹³

¹² See “Area Designations for the 2010 Primary Sulfur Dioxide National Ambient Air Quality Standard—Round 4,” memorandum to Regional Air Division Directors, Regions 1-10, from Peter Tsirigotis, dated September 5, 2019, available at https://www.epa.gov/sites/production/files/2019-09/documents/round_4_so2_designations_memo_09-05-2019_final.pdf .

¹³ The EPA supplemented this guidance with documents first made available to states and other interested parties in 2013 and updated in 2016. See SO2 NAAQS Designations Source-Oriented Monitoring Technical Assistance Document (February 2016), available at https://www.epa.gov/sites/production/files/2016-06/documents/so2monitoringtad.pdf, and SO2 NAAQS Designations Modeling Technical Assistance Document (August 2016), available at https://www.epa.gov/sites/production/files/2016-06/documents/so2modelingtad.pdf.

VI. What air quality information has the EPA used for these designations?

These designations are based on the EPA's application of the nationwide analytical approach to, and technical assessment of, the weight of evidence for each area, including but not limited to available air quality monitoring data and related air quality modeling results. With respect to air quality monitoring data, the EPA has considered data from at least the most recent three full calendar years, i.e., 2017-2019. The 1-hour primary SO2 standard is violated at an ambient air quality monitoring site when the 3-year average of the annual 99th percentile of the daily maximum 1-hour average concentrations of SO2 exceeds 75 ppb, as determined in accordance with Appendix T of 40 CFR part 50.

In the EPA's September 2019 memorandum, we noted that Round 4 area designations are based primarily on ambient monitoring data, including data from existing and new EPA-approved monitors that have collected data at least from January 2017 forward, pursuant to the DRR. In addition, the EPA may evaluate related air dispersion modeling submitted by state air agencies for two specific circumstances. First, states may submit air dispersion modeling of actual or allowable emissions to support the geographic extent of a nonattainment boundary. Second, states may submit air dispersion modeling of allowable emissions to demonstrate that new permanent and federally-enforceable SO2 emissions limits that subject sources are meeting provide for attainment of the NAAQS and represent a more accurate characterization of current air quality at the time of designation than does monitoring data reflecting past air quality that does not account for compliance with new limits and associated enforceable emissions reductions.

The deadline for Round 4 designations and the practical difficulties of obtaining complete, quality-assured, certified SO2 monitoring data for the entirety of calendar year 2020 in December 2020, make the EPA's use of final 2020 monitoring data for this action generally impracticable. Under normal circumstances, under the applicable regulations, the deadline for states to certify monitoring data for calendar year 2020 is May 1, 2021. However, because these designations are being promulgated at the end of calendar year 2020, and because states can make complete, quality-assured, certified 2020 data available for some areas quickly in 2021, to address the impracticability problem, the EPA is providing a process by which state-certified 2020 monitoring data that become available early in 2021 could be used in the Round 4 designations process.

Provided that this document is published in the Federal Register no later than March 31, 2021, the final Round 4 SO2 designations announced in this action will be effective on April 30, 2021. If any state submits complete, quality-assured, certified 2020 data (i.e., monitoring data from EPA's Air Quality System) to the appropriate EPA Regional office by February 15, 2021, supporting a change of the designation status for any Round 4 area within that state, and the EPA agrees that a change of designation status is appropriate, we will withdraw the designation announced in this action for such area and issue another designation that reflects the inclusion and analysis of such information. Any designation modification will occur in a separate Federal Register action prior to the April 30, 2021, effective date. We emphasize that EPA will conduct this process only for those states that submit the necessary information by the deadline of February 15, 2021, and in those instances where we can complete our analysis of the information and effect the change of designation status before the original effective date established by this final action.

VII. How do the Round 4 designations affect areas of Indian country?

There are no violating monitors for areas of Indian country, so no areas of Indian country are being designated as nonattainment or unclassifiable in Round 4. Any other parts of Indian country being designated as attainment/unclassifiable are being designated along with the surrounding state area.

VIII. Where can I find information forming the basis for this rule and exchanges between the EPA, states, and tribes related to this rule?

Information and data providing the basis for this action are provided in a final designations technical support document (TSD) ¹⁴ included in the docket. The final designations TSD, intended designations TSD, modeling files, technical assistance documents, applicable EPA memoranda, public comments, and copies of correspondence regarding this process between the EPA and the states, territories, tribes, and other parties, are available for review at the public docket for these SO2 designations at https://www.regulations.gov under Docket ID No. EPA-HQ-OAR-2020-0037.

¹⁴ The single final TSD for this action consists of a few sections with information that applies to all affected areas or to certain groups of areas with some common features, and many sections that are specific to individual state areas. For convenience, the term “TSD” is also used generically to refer to these state-specific sections. For informational purposes, these individual state-specific sections/TSDs are available for separate downloading from the indicated EPA website.

The EPA has also established a website for the initial SO2 designations rulemakings at: https://www.epa.gov/sulfur-dioxide-designations. The website includes the EPA's final SO2 designations, as well as state recommendation letters, the EPA's 120-day intended designations notification letters, technical support documents, responses to comments, and other related technical information. Air dispersion modeling input and output files are too large to post in the docket or on the website and must be requested from the EPA Docket Office or the Regional office contacts listed in the FOR FURTHER INFORMATION CONTACT section of this action.

IX. Environmental Justice Concerns

When the EPA establishes a new or revised NAAQS, the CAA requires the EPA to designate all areas of the U.S. as either nonattainment, attainment, or unclassifiable. This action addresses designation determinations for certain areas for the 2010 SO2 NAAQS. Area designations address environmental justice concerns by ensuring that the public is properly informed about the air quality in an area. In locations where air quality does not meet the NAAQS, the CAA requires relevant state authorities to initiate appropriate air quality management actions to ensure that all those residing, working, attending school, or otherwise present in those areas are protected, regardless of minority and economic status.

X. Statutory and Executive Order Reviews

A. Executive Order 12866: Regulatory Planning and Review and Executive Order 13563: Improving Regulation and Regulatory Review

This action is exempt from review by the Office of Management and Budget because it responds to the CAA requirement to promulgate air quality designations after promulgation of a new or revised NAAQS.

B. Executive Order 13771: Reducing Regulations and Controlling Regulatory Costs

This action is not an Executive Order 13771 regulatory action because air quality designations after promulgating a new revised NAAQS are exempt under Executive Order 12866.

C. Paperwork Reduction Act (PRA)

This action does not impose an information collection burden under the PRA. This action fulfills the non-discretionary duty for the EPA to promulgate air quality designations after promulgation of a new or revised NAAQS and does not contain any information collection activities.

D. Regulatory Flexibility Act (RFA)

This designation action under CAA section 107(d) is not subject to the RFA. The RFA applies only to rules subject to notice-and-comment rulemaking requirements under the Administrative Procedures Act (APA), 5 U.S.C. 553, or any other statute. Section 107(d)(2)(B) of the CAA explicitly provides that designations are exempt from the notice-and-comment provisions of the APA. In addition, designations under CAA section 107(d) are not among the list of actions that are subject to the notice-and-comment rulemaking requirements of CAA section 307(d).

E. Unfunded Mandates Reform Act (UMRA)

This action does not contain any unfunded mandate as described in UMRA, 2 U.S.C. 1531-1538 and does not significantly or uniquely affect small governments. The action imposes no enforceable duty on any state, local, or tribal governments or the private sector.

F. Executive Order 13132: Federalism

This action does not have federalism implications. It will not have substantial direct effects on the states, on the relationship between the national government and the states, or on the distribution of power and responsibilities among the various levels of government. The division of responsibility between the federal government and the states for purposes of implementing the NAAQS is established under the CAA.

G. Executive Order 13175: Consultation and Coordination With Indian Tribal Government

This action does not have tribal implications, as specified in Executive Order 13175. This action concerns the designation of certain areas in the U.S. for the 2010 SO2 NAAQS. The CAA provides for states, territories, and eligible tribes to develop plans to regulate emissions of air pollutants within their areas, as necessary, based on the designations. The Tribal Authority Rule (TAR) provides tribes the opportunity to apply for eligibility to develop and implement CAA programs, such as programs to attain and maintain the SO2 NAAQS, but it leaves to the discretion of the tribe the decision of whether to apply to develop these programs and which programs, or appropriate elements of a program, the tribe will seek to adopt. This rule does not have a substantial direct effect on one or more Indian tribes. It would not create any additional requirements beyond those of the SO2 NAAQS. This rule establishes the designations for certain areas of the country for the 2010 SO2 NAAQS, but no areas of Indian country are being designated as nonattainment by this action. Furthermore, this rule does not affect the relationship or distribution of power and responsibilities between the federal government and Indian tribes. The CAA and the TAR establish the relationship of the federal government and tribes in developing plans to attain the NAAQS, and this rule does nothing to modify that relationship. Thus, Executive Order 13175 does not apply.

Although Executive Order 13175 does not apply to this rule, after the EPA promulgated the 2010 primary SO2 NAAQS, the EPA communicated with tribal leaders and environmental staff regarding the designations process. In 2011, the EPA also sent individualized letters to all federally recognized tribes to explain the designation process for the 2010 SO2 NAAQS, to provide the EPA designations guidance, and to offer consultation with the EPA. The EPA provided further information to tribes through presentations at the National Tribal Forum and through participation in National Tribal Air Association conference calls. The EPA also sent individualized letters to all federally recognized tribes that submitted recommendations to the EPA about the EPA's intended Round 1 designations for the SO2 standard and offered tribal leaders the opportunity for consultation.¹⁵ These communications provided opportunities for tribes to voice concerns to the EPA about the general designations process for the 2010 SO2 NAAQS, as well as concerns specific to a tribe, and informed the EPA about key tribal concerns regarding designations as the designations process was under development and through its implementation up to that point. For the second, third, and fourth rounds of SO2 designations, the EPA sent additional letters to tribes that could potentially be affected and offered additional opportunities for participation in the designations process.

¹⁵ These communication letters to the tribes are provided in the dockets for Round 1 (Docket ID NO. EPA-HQ-OAR-2012-0233), Round 2 (Docket ID NO. EPA-HQ-OAR-2014-0464), and Round 3 (Docket ID NO. EPA-HQ-OAR-2017-0003).

H. Executive Order 13045: Protection of Children From Environmental Health and Safety Risks

The EPA interprets Executive Order 13045 as applying to those regulatory actions that concern environmental health or safety risks that the EPA has reason to believe may disproportionately affect children, per the definition of “covered regulatory action” in section 2-202 of the Executive Order. This action is not subject to Executive Order 13045 because it does not establish an environmental standard intended to mitigate health or safety risks.

I. Executive Order 13211: Actions That Significantly Affect Energy Supply, Distribution or Use

This action is not subject to Executive Order 13211 because it is not a significant regulatory action under Executive Order 12866.

J. National Technology Transfer and Advancement Act (NTTAA)

This rulemaking does not involve technical standards.

K. Executive Order 12898: Federal Actions To Address Environmental Justice in Minority Populations and Low-Income Populations

This action does not have disproportionately high and adverse human health or environmental effects on minority populations, low-income populations and/or indigenous peoples, as specified in Executive Order 12898 (59 FR 7629, February 16, 1994). The documentation for this determination is contained in Section IX of this action, “Environmental Justice Concerns.”

L. Congressional Review Act (CRA)

This action is subject to the CRA, and the EPA will submit a rule report to each House of the Congress and to the Comptroller General of the U.S. This action is not a “major rule” as defined by 5 U.S.C. 804(2).

M. Judicial Review

Section 307(b)(1) of the CAA indicates which Federal Courts of Appeal have venue for petitions of review of final actions by the EPA. This section provides, in part, that petitions for review must be filed in the Court of Appeals for the District of Columbia Circuit: (i) When the agency action consists of “nationally applicable regulations promulgated, or final actions taken, by the Administrator,” or (ii) when such action is locally or regionally applicable, if “such action is based on a determination of nationwide scope or effect and if in taking such action the Administrator finds and publishes that such action is based on such a determination.”

This final action is nationally applicable. To the extent a court finds this final action to be locally or regionally applicable, the EPA finds that this action is based on a determination of “nationwide scope or effect” within the meaning of CAA section 307(b)(1). This final action establishes designations for the 2010 SO2 NAAQS for certain areas across the U.S., located in 21 states, nine EPA Regions, and 10 federal judicial circuits. This final action is also based on a common core of determinations applied to areas across the country, including the EPA's nationwide analytical approach to and technical analysis of evaluating monitoring data and air quality modeling within the EPA's interpretation of statutory terms in the CAA such as the definitions of nonattainment, attainment, and unclassifiable under section 107(d)(1) of the CAA. For these reasons, this final action is nationally applicable or, alternatively, to the extent a court finds this action to be locally or regionally applicable, the Administrator has determined that this final action is based on a determination of nationwide scope or effect for purposes of CAA section 307(b)(1) and is hereby publishing that finding in the Federal Register.

Under section 307(b)(1) of the CAA, petitions for judicial review of this action must be filed in the United States Court of Appeals for the District of Columbia Circuit within 60 days from the date this final action is published in the Federal Register. Filing a petition for reconsideration by the Administrator of this final action does not affect the finality of the action for the purposes of judicial review, nor does it extend the time within which a petition for judicial review must be filed, and shall not postpone the effectiveness of such rule or action.

List of Subjects in 40 CFR Part 81

Environmental protection, Air pollution control, National parks, Wilderness areas.

Signing Statement

This document of the Environmental Protection Agency was signed on December 21, 2020, by Andrew Wheeler, Administrator, pursuant to court order of December 31, 2020. That document with the original signature and date is maintained by EPA. For administrative purposes only, and in compliance with requirements of the Office of the Federal Register, the undersigned EPA Official re-signs the document for publication, as an official document of the Environmental Protection Agency. This administrative process in no way alters the legal effect of this document upon publication in the Federal Register.

Signed in Washington, DC, on December 21, 2020, by Andrew Wheeler, Administrator.
Jane Nishida,
Acting Administrator.

Note: This document was received for publication by the Office of the Federal Register on March 11, 2021.

For the reasons set forth in the preamble, 40 CFR part 81 is amended as follows:

PART 81—DESIGNATIONS OF AREAS FOR AIR QUALITY PLANNING PURPOSES

1. The authority citation for part 81 continues to read as follows:

Authority: 42 U.S.C. 7401, et. seq.

Subpart C—Section 107 Attainment Status Designations

2. In § 81.301, the table entitled “Alabama—2010 Sulfur Dioxide NAAQS [Primary]” is amended by removing footnote 3 from the entry “Shelby County (part)”, adding an entry for “Shelby County (remainder)” in alphabetical order under “Rest of State”, and removing footnote 3 from the end of the table.

The addition reads as follows:

§ 81.301 Alabama.

* * * * *

Alabama—2010 Sulfur Dioxide NAAQS
[Primary]
Designated area ¹ | Designation: Date ² | Designation: Type
* * * * * * *
Rest of State:
* * * * * * *
Shelby County (remainder) | 4/30/2021 | Attainment/Unclassifiable.
* * * * * * *
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.

* * * * *

3. In § 81.311, the table entitled “Georgia—2010 Sulfur Dioxide NAAQS [Primary]” is amended by removing footnote 3 from the “Designated area” column heading and the entry “Rest of State”, adding an entry for “Floyd County” in alphabetical order under “Rest of State:”, and removing footnote 3 from the end of the table.

The addition reads as follows:

§ 81.311 Georgia.

* * * * *

Georgia—2010 Sulfur Dioxide NAAQS
[Primary]
Designated area ¹ | Designation: Date ² | Designation: Type
* * * * * * *
Rest of State:
* * * * * * *
Floyd County | 4/30/2021 | Attainment/Unclassifiable.
* * * * * * *
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.

* * * * *

4. In § 81.312, the table entitled “Hawaii—2010 Sulfur Dioxide NAAQS [Primary]” is amended by removing footnote 3 from the “Designated area” column heading, adding an entry for “Honolulu County” in alphabetical order, and removing footnote 3 from the end of the table.

The addition reads as follows:

§ 81.312 Hawaii.

* * * * *

Hawaii—2010 Sulfur Dioxide NAAQS
[Primary]
Designated area ¹ | Designation: Date ² | Designation: Type
* * * * * * *
Honolulu County | 4/30/2021 | Attainment/Unclassifiable.
* * * * * * *
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.

* * * * *

5. Section 81.314 is amended by revising the table entitled “Illinois—2010 Sulfur Dioxide NAAQS [Primary]” to read as follows:

§ 81.314 Illinois.

* * * * *

Illinois—2010 Sulfur Dioxide NAAQS
[Primary]
Designated area ¹ | Designation: Date ² | Designation: Type
Alton Township, IL | 9/12/2016 | Nonattainment.
Madison County (part)
Within Alton Township: Area east of Corporal Belchik Memorial Expressway, south of East Broadway, south of Route 3, and north of Route 143
Lemont, IL | 5/26/2020 | Attainment.
Cook County (part)
Lemont Township
Will County (part)
DuPage Township and Lockport Township
Pekin, IL | 5/26/2020 | Attainment.
Tazewell County (part)
Cincinnati Township and Pekin Township
Peoria County (part)
Hollis Township
Rest of State:
Adams County |  | Attainment/Unclassifiable.
Alexander County |  | Attainment/Unclassifiable.
Bond County |  | Attainment/Unclassifiable.
Boone County |  | Attainment/Unclassifiable.
Brown County |  | Attainment/Unclassifiable.
Bureau County | 9/12/2016 | Attainment/Unclassifiable.
Calhoun County |  | Attainment/Unclassifiable.
Carroll County |  | Attainment/Unclassifiable.
Cass County |  | Attainment/Unclassifiable.
Champaign County |  | Attainment/Unclassifiable.
Christian County |  | Attainment/Unclassifiable.
Clark County |  | Attainment/Unclassifiable.
Clay County |  | Attainment/Unclassifiable.
Clinton County |  | Attainment/Unclassifiable.
Coles County |  | Attainment/Unclassifiable.
Cook County (part) (remainder) |  | Attainment/Unclassifiable.
Crawford County |  | Attainment/Unclassifiable.
Cumberland County |  | Attainment/Unclassifiable.
De Kalb County |  | Attainment/Unclassifiable.
De Witt County |  | Attainment/Unclassifiable.
Douglas County |  | Attainment/Unclassifiable.
Du Page County |  | Attainment/Unclassifiable.
Edgar County |  | Attainment/Unclassifiable.
Edwards County |  | Attainment/Unclassifiable.
Effingham County |  | Attainment/Unclassifiable.
Fayette County |  | Attainment/Unclassifiable.
Ford County |  | Attainment/Unclassifiable.
Franklin County |  | Attainment/Unclassifiable.
Fulton County |  | Attainment/Unclassifiable.
Gallatin County |  | Attainment/Unclassifiable.
Greene County |  | Attainment/Unclassifiable.
Grundy County |  | Attainment/Unclassifiable.
Hamilton County |  | Attainment/Unclassifiable.
Hancock County |  | Attainment/Unclassifiable.
Hardin County |  | Attainment/Unclassifiable.
Henderson County |  | Attainment/Unclassifiable.
Henry County |  | Attainment/Unclassifiable.
Iroquois County |  | Attainment/Unclassifiable.
Jackson County |  | Attainment/Unclassifiable.
Jasper County | 9/12/2016 | Attainment/Unclassifiable.
Jefferson County |  | Attainment/Unclassifiable.
Jersey County |  | Attainment/Unclassifiable.
Jo Daviess County |  | Attainment/Unclassifiable.
Johnson County |  | Attainment/Unclassifiable.
Kane County |  | Attainment/Unclassifiable.
Kankakee County |  | Attainment/Unclassifiable.
Kendall County |  | Attainment/Unclassifiable.
Knox County |  | Attainment/Unclassifiable.
Lake County |  | Attainment/Unclassifiable.
La Salle County |  | Attainment/Unclassifiable.
Lawrence County |  | Attainment/Unclassifiable.
Lee County |  | Attainment/Unclassifiable.
Livingston County |  | Attainment/Unclassifiable.
Logan County |  | Attainment/Unclassifiable.
McDonough County |  | Attainment/Unclassifiable.
McHenry County |  | Attainment/Unclassifiable.
McLean County |  | Attainment/Unclassifiable.
Macon County | 4/30/2021 | Attainment/Unclassifiable.
Macoupin County |  | Attainment/Unclassifiable.
Madison County (part) (remainder) ⁴ |  | Attainment/Unclassifiable.
Marion County |  | Attainment/Unclassifiable.
Marshall County |  | Attainment/Unclassifiable.
Mason County |  | Attainment/Unclassifiable.
Massac County | 9/12/2016 | Attainment/Unclassifiable.
Menard County |  | Attainment/Unclassifiable.
Mercer County |  | Attainment/Unclassifiable.
Monroe County |  | Attainment/Unclassifiable.
Montgomery County |  | Attainment/Unclassifiable.
Morgan County |  | Attainment/Unclassifiable.
Moultrie County |  | Attainment/Unclassifiable.
Ogle County |  | Attainment/Unclassifiable.
Peoria County (part) (remainder) |  | Attainment/Unclassifiable.
Perry County |  | Attainment/Unclassifiable.
Piatt County |  | Attainment/Unclassifiable.
Pike County |  | Attainment/Unclassifiable.
Pope County |  | Attainment/Unclassifiable.
Pulaski County |  | Attainment/Unclassifiable.
Putnam County | 9/12/2016 | Attainment/Unclassifiable.
Randolph County |  | Attainment/Unclassifiable.
Richland County |  | Attainment/Unclassifiable.
Rock Island County |  | Attainment/Unclassifiable.
St. Clair County |  | Attainment/Unclassifiable.
Saline County |  | Attainment/Unclassifiable.
Sangamon County |  | Attainment/Unclassifiable.
Schuyler County |  | Attainment/Unclassifiable.
Scott County |  | Attainment/Unclassifiable.
Shelby County |  | Attainment/Unclassifiable.
Stark County |  | Attainment/Unclassifiable.
Stephenson County |  | Attainment/Unclassifiable.
Tazewell County (part) (remainder) |  | Attainment/Unclassifiable.
Union County |  | Attainment/Unclassifiable.
Vermilion County |  | Attainment/Unclassifiable.
Wabash County |  | Attainment/Unclassifiable.
Warren County |  | Attainment/Unclassifiable.
Washington County |  | Attainment/Unclassifiable.
Wayne County |  | Attainment/Unclassifiable.
White County |  | Attainment/Unclassifiable.
Whiteside County |  | Attainment/Unclassifiable.
Will County (part) (remainder) |  | Attainment/Unclassifiable.
Williamson County | ³ 10/15/2019 | Attainment/Unclassifiable.
Winnebago County |  | Attainment/Unclassifiable.
Woodford County |  | Attainment/Unclassifiable.
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.
³ Williamson County was initially designated on September 12, 2016. The initial designation was reconsidered and modified on October 15, 2019.
⁴ A portion of Madison County, specifically all of Wood River Township, and the area in Chouteau Township north of Cahokia Diversion Channel, was designated attainment/unclassifiable on 9/12/16.

* * * * *

6. In § 81.315, the table entitled “Indiana—2010 Sulfur Dioxide NAAQS [Primary]” is amended by removing footnote 3 from the “Designated area” column heading, adding an entry for “Porter County” (before the entry for “Posey County”), and removing footnote 3 from the end of the table.

The addition reads as follows:

§ 81.315 Indiana.

* * * * *

Indiana—2010 Sulfur Dioxide NAAQS
[Primary]
Designated area ¹ | Designation: Date ² | Designation: Type
* * * * * * *
Porter County | 4/30/2021 | Attainment/Unclassifiable.
* * * * * * *
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.

* * * * *

7. In § 81.318, table entitled “Kentucky—2010 Sulfur Dioxide NAAQS [Primary]” is amended by removing footnote 4 from the “Designated area” heading and from the entry for “Henderson County (part)”, adding entries for “Henderson-Webster Counties, KY” (before the entry “Campbell-Clermont Counties, KY-OH:”) adding entries for “Henderson County (remainder)” (before the entry “Henry County”), and “Webster County (remainder)” in alphabetical order, and removing footnote 4 from the end of the table.

The additions read as follows:

§ 81.318 Kentucky.

* * * * *

Kentucky—2010 Sulfur Dioxide NAAQS
[Primary]
Designated area | Designation: Date ¹ | Designation: Type
Henderson-Webster Counties, KY | 4/30/2021 | Nonattainment.
Henderson County (part).
Webster County (part).
That portion of Henderson and Webster Counties encompassed by the polygon with the 48 vertices using Universal Traverse Mercator (UTM) coordinates of North American Datum 1983 (NAD83) as follows:
(1) KY 520, Upper Delaware Rd to the Green River boundary at 463979.00 Easting (E), 4171000.03 Northing (N);
(2) The Green River boundary to JZ Shelton Rd 459058.03 E, 4160832.96 N;
(3) JZ Shelton Rd to KY 370 457811.00 E, 4159192.96, N;
(4) KY 370 to Pennyrile Parkway I-69 457089.96 E, 4159452.95 N;
(5) Pennyrile Parkway I-69 to Sassafras Grove Rd 457675.35 E, 4156244.55 N;
(6) Sassafras Grove Rd to US 41 456236.68 E, 4156125.75 N;
(7) US 41 to Slaughters Elmwood Rd 457442.82 E, 4153425.68 N;
(8) Slaughters Elmwood Rd to Railroad Track (NW) 456589.41 E, 4153424.43 N;
(9) Railroad Track (NW) to Breton Rd 453677.09 E, 4155992.29 N;
(10) Breton Rd to KY 1835 453079.74 E, 4154924.00 N;
(11) KY 1835 to KY 138 450702.89 E, 4153141.51 N;
(12) KY 138 to Crowder Rd 452587.06 E, 4152032.38 N;
(13) Crowder Rd to KY 120 453030.14 E, 4149175.08 N;
(14) KY 120 to Gooch Jones Rd 447528.25 E, 4147663.88 N;
(15) Gooch Jones Rd to John Roach Rd 446551.75 E, 4150042.51 N;
(16) John Roach Rd to Old Dixon Slaughters Rd 447462.17 E, 4151329.04 N;
(17) Old Dixon Slaughters Rd to Old Dixon Rd 446532.28 E, 4152143.23 N;
(18) Old Dixon Rd to KY 138 446849.49 E, 4152437.09 N;
(19) KY 138 to Carnel Brooks Rd 450196.38 E, 4153305.18 N;
(20) Carnel Brooks Rd to Rakestraw Bottoms Rd 450079.34 E, 4154326.39 N;
(21) Rakestraw Bottoms Rd to KY 132 447141.40 E, 4157145.04 N;
(22) KY 132 to KY 283 444025.55 E, 4156172.90 N;
(23) KY 283 to Beckley Osbourne Rd 444300.82 E, 4158111.35 N;
(24) Beckley Osbourne Rd to Dixon Wanamaker Rd 442067.07 E, 4158641.90 N;
(25) Dixon Wanamaker Rd to KY 191 441887.88 E, 4161614.33 N;
(26) KY 191 to D Melton Rd 442743.25 E, 4161250.11 N;
(27) D Melton Rd to Knoblick Creek Rd 443688.82 E, 4162093.08 N;
(28) Knoblick Creek Rd to US 41A 442319.35 E, 4163220.45 N;
(29) US 41A to Dixon 1 Rd 443500.62 E, 4170518.52 N;
(30) Dixon 1 Rd to GF Sights Rd 443094.58 E, 4170166.59 N;
(31) GF Sights Rd to Cairo Dixie Rd 441341.46 E, 4170978.60 N;
(32) Cairo Dixie Rd to Liles Cairo Rd 442919.00 E, 4173140.24 N;
(33) Liles Cairo Rd to US 41A 443124.23 E, 4173204.51 N;
(34) US 41A to Cairo Hickory Grove Rd 442860.28 E, 4174017.18 N;
(35) Cairo Hickory Grove Rd to Pruitt Agnew Rd 446056.06 E, 4175740.98 N;
(36) Pruitt Agnew Rd to KY 1299 447662.11 E, 4180049.93 N;
(37) KY 1299 to Anthoston Frog Island Rd 448905.37 E, 4176327.31 N;
(38) Anthoston Frog Island Rd to KY 136 452613.63 E, 4179047.02 N;
(39) KY 136 to Upper Delaware Rd 454451.59 E, 4177687.26 N;
(40) Upper Delaware Rd to Barren Church Rd S 456153.23 E, 4177723.20 N;
(41) Barren Church Rd S to Barren Church Rd N 457912.85 E, 4180247.83 N;
(42) Barren Church Rd N to KY 1078 458542.52 E, 4181615.55 N;
(43) KY 1078 to Jones Brothers Rd 461322.00 E, 4179952.85 N;
(44) Jones Brothers Rd to KY 416 461209.84 E, 4177755.55 N;
(45) KY 416 to KY 1078 463492.08 E, 4178026.50 N;
(46) KY 1078 to Onionville Rd 464177.31 E, 4177054.13 N;
(47) Onionville Rd to Work Road 465476.34 E, 4176076.78 N;
(48) Work Road to Upper Delaware Rd 462529.15 E, 4173036.52 N.
* * * * * * *
Henderson County (remainder) | 4/30/2021 | Attainment/Unclassifiable.
* * * * * * *
Webster County (remainder) | 4/30/2021 | Attainment/Unclassifiable.
* * * * * * *
¹ This date is April 9, 2018, unless otherwise noted.
² Excludes Indian country located in each area, if any, unless otherwise specified
³ Includes any Indian country in each county or area, if any, unless otherwise specified. EPA is not determining the boundaries of any area of Indian country in this table, including any area of Indian country located in the larger designation area. The inclusion of any Indian country in the designation area is not a determination that the state has regulatory authority under the Clean Air Act for such Indian country.

* * * * *

8. In § 81.319, the table entitled “Louisiana—2010 Sulfur Dioxide NAAQS [Primary]” is amended by removing footnote 3 from the “Designated area” column heading, adding entries for “East Baton Rouge Parish” (before the entry for “East Carroll Parish), “St. Charles Parish” (before the entry for “St. Helena Parish), “St. James Parish” (before the entry for “St. John the Baptist Parish”), and “West Baton Rouge Parish” (before the entry for “West Carroll Parish”), and removing footnote 3 from the end of the table.

The additions read as follows:

§ 81.319 Louisiana.

* * * * *

Louisiana—2010 Sulfur Dioxide NAAQS
[Primary]
Designated area ¹ | Designation: Date ² | Designation: Type
* * * * * * *
East Baton Rouge Parish | 4/30/2021 | Attainment/Unclassifiable.
* * * * * * *
St. Charles Parish | 4/30/2021 | Attainment/Unclassifiable.
* * * * * * *
St. James Parish | 4/30/2021 | Attainment/Unclassifiable.
* * * * * * *
West Baton Rouge Parish | 4/30/2021 | Attainment/Unclassifiable.
* * * * * * *
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.

* * * * *

9. In § 81.321, the table entitled “Maryland—2010 Sulfur Dioxide NAAQS [Primary]” is amended by removing footnote 3 from the “Designated area” column heading, adding an entry for “Allegany County” before the entry “Anne Arundel County (part) Remainder of County”, and removing footnote 3 from the end of the table.

The addition reads as follows:

§ 81.321 Maryland.

* * * * *

Maryland—2010 Sulfur Dioxide NAAQS
[Primary]
Designated area ¹ | Designation: Date ² | Designation: Type
* * * * * * *
Allegany County | 4/30/2021 | Attainment/Unclassifiable.
* * * * * * *
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.

* * * * *

10. In § 81.326, the table entitled “Missouri—2010 Sulfur Dioxide NAAQS [Primary]” is amended by removing footnote 3 from the “Designated area” column heading, adding an entry for “New Madrid County, MO” (before the entry for “Franklin-St. Charles Counties, MO”), adding an entry for “Iron County” (before the entry for “Jackson County (part)(remainder)”), adding an entry for “New Madrid County (remainder)” (before the entry for “Newton County”), and removing footnote 3 from the end of the table.

The addtions read as follows:

§ 81.326 Missouri.

* * * * *

Missouri—2010 Sulfur Dioxide NAAQS
[Primary]
Designated area ¹ | Designation: Date ² | Designation: Type
* * * * * * *
New Madrid County, MO | 4/30/2021 | Nonattainment.
New Madrid County (part).
Area bounded by: East: Missouri/Kentucky and Missouri/Tennessee State lines. North: County Highway 406 East to Levee Road, following Levee Road North to County Highway 406, then extending directly East to the Missouri/Kentucky State line. West: County Highway 403 South: County Highway 408 East to the intersection with County Highway 431, then extending directly East to the Missouri/Tennessee State line.
* * * * * * *
Iron County | 4/30/2021 | Attainment/Unclassifiable.
* * * * * * *
New Madrid County (remainder) | 4/30/2021 | Attainment/Unclassifiable.
* * * * * * *
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.

* * * * *

11. In § 81.328, the table entitled “Nebraska—2010 Sulfur Dioxide NAAQS [Primary]” is amended by removing footnote 3 from the “Designated area” column heading, adding an entry for “Douglas County” in alphabetical order under “Statewide:”, and removing footnote 3 from the end of the table.

The addition reads as follows:

§ 81.328 Nebraska.

* * * * *

Nebraska—2010 Sulfur Dioxide NAAQS
[Primary]
Designated area ¹ | Designation: Date ² | Designation: Type
* * * * * * *
Statewide:
* * * * * * *
Douglas County | 4/30/2021 | Attainment/Unclassifiable.
* * * * * * *
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.

* * * * *

12. In § 81.333, the table entitled “New York—2010 Sulfur Dioxide NAAQS [Primary]” is amended by removing footnote 3 from the “Designated area” column heading, adding entries for “St. Lawrence County (part)” (before the entry for “Monroe County”), “Cayuga County” (before the entry for “Chautauqua County”), “Seneca County” (before the entry for “Steuben County”), “St. Lawrence County (remainder)” (before the entry for “Steuben County”), and “Tompkins County” (before the entry for “Ulster County”), and removing footnote 3 from the end of the table.

The additions read as follows:

§ 81.333 New York.

* * * * *

New York—2010 Sulfur Dioxide NAAQS
[Primary]
Designated area ¹ | Designation: Date ² | Designation: Type
St. Lawrence County (part) | 4/30/2021 | Nonattainment.
That portion of St. Lawrence County encompassed by the polygon with the vertices using Universal Traverse Mercator (UTM) coordinates in UTM zone 18 with datum NAD83 as follows:
(1) Vertices-UTM Easting (m) 512656.8, UTM Northing 4977651.3; (2) vertices-UTM Easting (m) 510356.8, UTM Northing 4976189.5; (3) Vertices-UTM Easting (m) 511064.5, UTM Northing 4974489.7; (4) Vertices-UTM Easting (m) 508898.2, UTM Northing 4973487.1; (5) Vertices-UTM Easting (m) 509251.4, UTM Northing 4972866.3; (6) Vertices-UTM Easting (m) 509307.3, UTM Northing 4971758.9; (7) Vertices-UTM Easting (m) 507840.9, UTM Northing 4973890.8; (8) Vertices-UTM Easting (m) 504128.1, UTM Northing 4974535.5; (9) Vertices-UTM Easting (m) 502311.8, UTM Northing 4977342.3; (10) Vertices-UTM Easting (m) 503989.7, UTM Northing 4979232.2; (11) Vertices-UTM Easting (m) 504692.2, UTM Northing 4981230.3; (12) Vertices-UTM Easting (m) 509220.5, UTM Northing 4983035.6.
* * * * * * *
Cayuga County | 4/30/2021 | Attainment/Unclassifiable.
* * * * * * *
Seneca County | 4/30/2021 | Attainment/Unclassifiable.
St. Lawrence County (remainder) | 4/30/2021 | Attainment/Unclassifiable.
* * * * * * *
Tompkins County | 4/30/2021 | Attainment/Unclassifiable.
* * * * * * *
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.

* * * * *

13. In § 81.334, the table entitled “North Carolina-2010 Sulfur Dioxide NAAQS [Primary]” is amended by:

a. Removing the entry for “Buncombe County (part) ⁴ ” and adding an entry for “Buncombe County” in its place;

b. Adding an entry for “Limestone Township” under the new entry for “Buncombe County”;

c. Removing the entry for “Haywood County (part) ⁴ ” and adding an entry for “Haywood County” in its place;

d. Adding an entry for “Beaverdam Township” under the new entry for “Haywood County”;

e. Removing the entry for “Person County (part) ⁴ ” and adding an entry for “Person County” in its place;

f. Adding an entry for “Cunningham Township” under the new entry for “Person County”; and

g. Removing footnote 4 from the table.

The additions read as follows:

§ 81.334 North Carolina.

* * * * *

North Carolina—2010 Sulfur Dioxide NAAQS
[Primary]
Designated area | Designation: Date ¹ | Designation: Type
* * * * * * *
Buncombe County |  | Attainment/Unclassifiable.
All Townships except Limestone Township.
Limestone Township | 4/30/2021
* * * * * * *
Haywood County |  | Attainment/Unclassifiable.
All Townships except Beaverdam Township.
Beaverdam Township | 4/30/2021
* * * * * * *
Person County |  | Attainment/Unclassifiable.
All Townships except Cunningham Township.
Cunningham Township | 4/30/2021
* * * * * * *
¹ This date is April 9, 2018, unless otherwise noted.
² Excludes Indian country located in each area, if any, unless otherwise specified
³ Includes any Indian country in each county or area, unless otherwise specified. EPA is not determining the boundaries of any area of Indian country in this table, including any area of Indian country located in the larger designation area. The inclusion of any Indian country in the designation area is not a determination that the state has regulatory authority under the Clean Air Act for such Indian country.

* * * * *

14. In § 81.335, the table entitled “North Dakota-2010 Sulfur Dioxide NAAQS [Primary]” is amended by removing footnote 3 from the entry for “Rest of State:”, adding an entry for “Williams County” in alphabetical order under “Rest of State:”, and removing footnote 3 from the end of the table.

The addition reads as follows:

§ 81.335 North Dakota.

* * * * *

North Dakota—2010 Sulfur Dioxide NAAQS
[Primary]
Designated area ¹ | Designation: Date ² | Designation: Type
* * * * * * *
Rest of State: |  | Attainment/Unclassifiable.
* * * * * * *
Williams County | 4/30/2021
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.

* * * * *

15. In § 81.337, the table entitled “Oklahoma-2010 Sulfur Dioxide NAAQS [Primary]” is amended by removing footnote 3 from the “Designated area” column heading, adding entries for “Garfield County”, “Mayes County”, and “Muskogee County” in alphabetical order, and removing footnote 3 from the end of the table.

The additions read as follows:

§ 81.337 Oklahoma.

* * * * *

Oklahoma—2010 Sulfur Dioxide NAAQS
[Primary]
Designated area ¹ | Designation: Date ² | Designation: Type
* * * * * * *
Garfield County | 4/30/2021 | Attainment/Unclassifiable.
* * * * * * *
Mayes County | 4/30/2021 | Attainment/Unclassifiable.
* * * * * * *
Muskogee County | 4/30/2021 | Attainment/Unclassifiable.
* * * * * * *
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.

* * * * *

16. In § 81.339, the table entitled “Pennsylvania—2010 Sulfur Dioxide NAAQS [Primary]” is amended by removing footnote 3 from the “Designated area” column heading, adding an entry for “York County” (after the entry for “Wyoming County”), and removing footnote 3 from the end of the table.

The addition reads as follows:

§ 81.339 Pennsylvania.

* * * * *

Pennsylvania—2010 Sulfur Dioxide NAAQS
[Primary]
Designated area ¹ | Designation: Date ² | Designation: Type
* * * * * * *
York County | 4/30/2021 | Attainment/Unclassifiable.
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.

* * * * *

17. In § 81.344, the table entitled “Texas-2010 Sulfur Dioxide NAAQS [Primary]” is amended by:

a. Removing footnote 3 from the “Designated area” column heading;

b. Adding entries for “Howard County (part)”, “Hutchinson County (part)”, and “Navarro County (part)” in alphabetical order before the entry for “Rusk and Panola Counties, TX”;

c. Adding an entry for “Harrison County” before the entry for “Milam County”;

d. Adding an entry for “Orange County” before the entry for “Potter County”;

e. Adding an entry for “Bexar County” before the entry for “Blanco County”;

f. Adding an entry for “Howard County (remainder)” before the entry for “Hudspeth County”;

g. Adding an entry for “Hutchinson (remainder)” before the entry for “Irion County”;

h. Adding an entry for “Jefferson County” before the entry for “Jim Hogg County”;

i. Adding an entry for “Navarro County (remainder)” before the entry for “Newton County”;

j. Revising the entry for “Robertson County” to read “Robertson County (partial) ³ ”;

k. Adding an entry for “Robertson County (remainder) ³” before the entry for “Rockwall County”;

l. Removing the entry for “Titus County (part)” and adding an entry for “Titus County (remainder)” in its place; and

m. Revising the text of footnote 3

The additions and revision read as follows:

§ 81.344 Texas.

* * * * *

Texas—2010 Sulfur Dioxide NAAQS
[Primary]
Designated area ¹ | Designation: Date ² | Designation: Type
* * * * * * *
Howard County, TX (part) | 4/30/2021 | Nonattainment.
Those portions of Howard County encompassed by the rectangle with the vertices using Universal Traverse Mercator (UTM) coordinates in UTM zone 14 with datum NAD83 as follows:
(1) Vertices—UTM Easting (m) 271177.6, UTM Northing (m) 3571453.5;
(2) vertices—UTM Easting (m) 274913.8, UTM Northing (m) 3571453.5;
(3) vertices—UTM Easting (m) 274913.8, UTM Northing (m) 3576035.9;
(4) vertices—UTM Easting (m) 271177.6, UTM Northing (m) 3576035.9.
* * * * * * *
Hutchinson County, TX (part) | 4/30/2021 | Nonattainment.
Those portions of Hutchinson County encompassed by the rectangle with the vertices using Universal Traverse Mercator (UTM) coordinates in UTM zone 14 with datum NAD83 as follows:
(1) Vertices—UTM Easting (m) 273540.5, UTM Northing (m) 3945147.6;
(2) vertices—UTM Easting (m) 296187.4, UTM Northing (m) 3944698.5;
(3) vertices—UTM Easting (m) 296187.4, UTM Northing (m) 3959485.8;
(4) vertices—UTM Easting (m) 273540.5, UTM Northing (m) 3959499.4.
* * * * * * *
Navarro County (part) | 4/30/2021 | Nonattainment.
Those portions of Navarro County encompassed by the polygon with the vertices using Universal Traverse Mercator (UTM) coordinates in UTM zone 14 with datum NAD83 as follows:
(1) Vertices—UTM Easting (m) 734940.8, UTM Northing (m) 3520745.2;
(2) vertices—UTM Easting (m) 737000.0, UTM Northing (m) 3520585.9;
(3) vertices—UTM Easting (m) 756678.9, UTM Northing (m) 3532601.9;
(4) vertices—UTM Easting (m) 756678.9, UTM Northing (m) 3542866.0;
(5) vertices—UTM Easting (m) 734940.8, UTM Northing (m) 3542866.0.
* * * * * * *
Harrison County | 4/30/2021 | Unclassifiable.
* * * * * * *
Orange County | 4/30/2021 | Unclassifiable.
* * * * * * *
Bexar County | 4/30/2021 | Attainment/Unclassifiable.
* * * * * * *
Howard County (remainder) | 4/30/2021 | Attainment/Unclassifiable.
* * * * * * *
Hutchinson County (remainder) | 4/30/2021 | Attainment/Unclassifiable.
* * * * * * *
Jefferson County | 4/30/2021 | Attainment/Unclassifiable.
* * * * * * *
Navarro County (remainder) | 4/30/2021 | Attainment/Unclassifiable.
* * * * * * *
Robertson County (part) ³ | 9/12/2016 | Attainment/Unclassifiable.
* * * * * * *
Robertson County (remainder) ³ | 4/30/2021 | Attainment/Unclassifiable.
* * * * * * *
Titus County (remainder) | 4/30/2021 | Attainment/Unclassifiable.
* * * * * * *
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.
³ A portion of Robertson County, specifically the area around the Optim Energy Twin Oaks Power Station, was designated Attainment/Unclassifiable on 9/12/16. The remaining portion of Robertson County was designated on 4/30/2021.

* * * * *

18. In § 81.347, the table entitled “Virginia-2010 Sulfur Dioxide NAAQS [Primary]” is amended by removing footnote 3 from the “Designated area” column heading, adding an entry for “Giles County (part)” (before the entry for “Buchanan County”), adding entries for “Alleghany County”, “Botetourt County”, and “Giles County (remainder)” in alphabetical order after the entry for “Accomack County”, and removing footnote 3 from the end of the table.

The additions read as follows:

§ 81.347 Virginia.

* * * * *

Virginia—2010 Sulfur Dioxide NAAQS
[Primary]
Designated area ¹ | Designation: Date ² | Designation: Type
Giles County (part) | 4/30/2021 | Nonattainment.
Using Geographic Coordinate System:
GCS_North_American_1983 and Datum D_North_American_1983, the area bounded by the lines connecting the following coordinate points (Latitude, Longitude):
37.385249, −80.718248
37.431656, −80.619986
37.391368, −80.597698
37.369986, −80.649488
37.354441, −80.642085
37.338479, −80.676322
37.339474, −80.676771
37.340652, −80.677123
37.341580, −80.677298
37.343330, −80.678318
37.344937, −80.679026
37.345866, −80.679692
37.347105, −80.680670
37.347976, −80.681783
37.348229, −80.682898
37.348480, −80.683657
37.348185, −80.684689
37.347824, −80.685948
37.347241, −80.687983
37.346509, −80.689766
37.346075, −80.691489
37.345317, −80.693571
37.345091, −80.694767
37.344900, −80.696603
37.344679, −80.697755
37.344700, −80.698520
37.344989, −80.699570
37.345395, −80.700635
37.345740, −80.701485
37.347021, −80.701929
37.348308, −80.701922
37.349556, −80.701498
37.350789, −80.701099
37.352718, −80.700642
37.354894, −80.700352
37.356601, −80.700486
37.358442, −80.700844
37.359567, −80.701852
37.361185, −80.702914
37.361950, −80.703726
37.362516, −80.705580
37.362901, −80.707040
37.363285, −80.708539
* * * * * * *
Alleghany County | 4/30/2021 | Attainment/Unclassifiable.
* * * * * * *
Botetourt County | 4/30/2021 | Attainment/Unclassifiable.
* * * * * * *
Giles County (remainder) | 4/30/2021 | Attainment/Unclassifiable.
* * * * * * *
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.

* * * * *

19. In § 81.348, the table entitled “Washington-2010 Sulfur Dioxide NAAQS [Primary]” is amended by removing footnote 3 from the entry for “Rest of State:”, adding an entry for “Whatcom County (part)” (before the entry “Lewis County”), adding entries for “Chelan”, “Douglas”, and “Whatcom (remainder)” in alphabetical order under “Rest of State:”, and removing footnote 3 from the end of the table.

The additions read as follows:

§ 81.348 Washington.

* * * * *

Washington—2010 Sulfur Dioxide NAAQS
[Primary]
Designated area ¹ | Designation: Date ² | Designation: Type
Whatcom County (part) | 4/30/2021 | Nonattainment.
That portion of Whatcom County encompassed by the rectangle with the vertices using Universal Traverse Mercator (UTM) coordinates in UTM zone 10 with datum NAD83 as follows: (1) Vertices—UTM Easting (m) 519671, UTM Northing (m) 5412272; (2) Vertices—UTM Easting (m) 524091, UTM Northing (m) 5412261; (3) Vertices—UTM Easting (m) 519671, UTM Northing (m) 5409010; (1) Vertices—UTM Easting (m) 524111, UTM Northing (m) 5409044.
* * * * * * *
Rest of State:
* * * * * * *
Chelan | 4/30/2021 | Attainment/Unclassifiable.
* * * * * * *
Douglas | 4/30/2021 | Attainment/Unclassifiable.
* * * * * * *
Whatcom (remainder) | 4/30/2021 | Attainment/Unclassifiable.
* * * * * * *
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.

* * * * *

20. In § 81.349, the table entitled “West Virginia—2010 Sulfur Dioxide NAAQS [Primary]” is amended by removing footnote 3 from the “Designated area” column heading, adding an entry for “Mineral County” (before the entry for “Mingo County”), and removing footnote 3 from the end of the table.

The addition reads as follows:

§ 81.349 West Virginia.

* * * * *

West Virginia—2010 Sulfur Dioxide NAAQS
[Primary]
Designated area ¹ | Designation: Date ² | Designation: Type
* * * * * * *
Mineral County | 4/30/2021 | Attainment/Unclassifiable.
* * * * * * *
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.

* * * * *

21. In § 81.350, the table entitled “Wisconsin—2010 Sulfur Dioxide NAAQS [Primary]” is amended by:

a. Removing footnote 4 from the “Designated area” column heading;

b. Adding an entry for “Outagamie County (part)” before the entry “Rhinelander, WI”;

c. Removing the entry for “Oneida County” below the entry “Oconto County” and adding an entry for “Oneida County (remainder)” in its place;

d. Adding an entry for “Outagamie County (remainder)” before the entry “Ozaukee County; and

e. Removing footnote 4 from the end of the table.

The additions read as follows:

§ 81.350 Wisconsin.

* * * * *

Wisconsin—2010 Sulfur Dioxide NAAQS
[Primary]
Designated area ¹ | Designation: Date ² | Designation: Type
Outagamie County (part) | 4/30/2021 | Nonattainment.
Outagamie County except Oneida Township (which includes Oneida Reservation), Oneida Off-Reservation Trust Land, and Noncontiguous Portions of Seymour Township Adjoining Oneida Nation Tribal Lands
* * * * * * *
Oneida County (remainder) |  | Attainment/Unclassifiable.
Outagamie County (remainder) | 4/30/2021 | Attainment/Unclassifiable.
* * * * * * *
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.
³ Includes Indian country of the tribe listed in this table located in Forest County, Wisconsin. Information pertaining to areas of Indian country in this table is intended for Clean Air Act planning purposes only and is not an EPA determination of Indian country status or any Indian country boundary. EPA lacks the authority to establish Indian country land status, and is making no determination of Indian country boundaries, in this table.

* * * * *

22. Section 81.351 is amended by revising the table entitled “Wyoming—2010 Sulfur Dioxide NAAQS [Primary]” to read as follows:

§ 81.351 Wyoming.

* * * * *

Wyoming—2010 Sulfur Dioxide NAAQS
[Primary]
Designated area ¹ | Designation: Date ² | Designation: Type
Albany County |  | Attainment/Unclassifiable.
Big Horn County |  | Attainment/Unclassifiable.
Campbell County |  | Attainment/Unclassifiable.
Carbon County | 4/30/2021 | Attainment/Unclassifiable.
Converse County | 4/30/2021 | Attainment/Unclassifiable.
Crook County |  | Attainment/Unclassifiable.
Fremont County (part) |  | Attainment/Unclassifiable.
All areas west of the western border of Township 40North-Range 93West, T39N-R93W, and T38N-R93W, and south of U.S. Route 20.
Freemont County (remainder) | 4/30/2021 | Attainment/Unclassifiable.
Goshen County |  | Attainment/Unclassifiable.
Hot Springs County |  | Attainment/Unclassifiable.
Johnson County |  | Attainment/Unclassifiable.
Lincoln County |  | Attainment/Unclassifiable.
Natrona County |  | Attainment/Unclassifiable.
Niobrara County |  | Attainment/Unclassifiable.
Park County |  | Attainment/Unclassifiable.
Platte County |  | Attainment/Unclassifiable.
Sheridan County |  | Attainment/Unclassifiable.
Sublette County |  | Attainment/Unclassifiable.
Sweetwater County (part) |  | Attainment/Unclassifiable.
All areas of the county east of U.S. Route 191.
Sweetwater County (remainder) | 4/30/2021 | Attainment/Unclassifiable.
Teton County |  | Attainment/Unclassifiable.
Uinta County |  | Attainment/Unclassifiable.
Washakie County |  | Attainment/Unclassifiable.
Weston County |  | Attainment/Unclassifiable.
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.

* * * * *

[FR Doc. 2021-05397 Filed 3-25-21; 8:45 am]

BILLING CODE 6560-50-P